DEPARTMENT OF EDUCATION

[Docket No.: ED-2021-SCC-0074]

Agency Information Collection Activities; Submission to the Office of Management and Budget for Review and Approval; Comment Request; Impact Aid Electronic Data Collection (EDC) Program Questionnaire

AGENCY: Office of Elementary and Secondary Education (OESE), Department of Education (ED).

ACTION: Notice.

SUMMARY: In accordance with the Paperwork Reduction Act of 1995, ED is proposing a new information collection.

DATES: Interested persons are invited to submit comments on or before August 23, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Nicholas Di Taranto, 202-453-7457.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Aid Electronic Data Collection (EDC) Program Questionnaire.

OMB Control Number: 1810-NEW.

Type of Review: A new information collection.

Respondents/Affected Public: State, Local, and Tribal Governments.

Total Estimated Number of Annual Responses: 30.

Total Estimated Number of Annual Burden Hours: 8.

Abstract: The Impact Aid Program (IAP) in the Office of Elementary and Secondary Education (OESE) at the U.S. Department of Education (the Department) requests clearance for the Electronic Data Collection (EDC) Program Questionnaire. This is a new information collection request. As part of the Impact Aid 7003 application, Local Educational Agency's (LEA) are required to submit data concerning federally-connected children within their LEA. In the past LEAs have collected this information using paper forms, but more recently, and particularly this past year, there has been more interest from LEAs to collect this data electronically. The purpose of the EDC program is to reduce administrative burden and to create a set of best practices to assist other LEAs in the development their own electronic systems. The questionnaire will allow IAP staff to provide in depth technical assistance to LEAs and potentially increase efficiency and reduce costs associated with the Impact Aid data collection process. Prior to Impact Aid approval of an EDC program, the LEA must successfully demonstrate that their system complies with all requirements of the Impact Aid program: U.S.C. 7703 and 7705, and regulations at 34 CFR 222.39-35.

Dated: July 19, 2021.
Kate Mullan,
PRA Coordinator, Strategic Collections and Clearance, Governance and Strategy Division, Office of Chief Data Officer, Office of Planning, Evaluation and Policy Development.

[FR Doc. 2021-15609 Filed 7-21-21; 8:45 am]

BILLING CODE 4000-01-P